DEPARTMENT OF THE INTERIOR

Minerals Management Service

Agency Information Collection Activities: Proposed Collection; Comment Request

AGENCY: Minerals Management Service (MMS), Interior.

ACTION: Notice of extension and revision of an information collection (1010-0141).

SUMMARY: To comply with the Paperwork Reduction Act of 1995 (PRA), MMS is inviting comments on a collection of information that we will submit to the Office of Management and Budget (OMB) for review and approval. The information collection request (ICR) concerns the paperwork requirements in the regulations under 30 CFR 250, Subpart D, “Oil and Gas Drilling Operations,” and forms MMS-123, MMS-123S, MMS-124, MMS-125, MMS-133 and MMS-133S. The current OMB approval of these forms expires in October 2005. MMS has revised the forms, so that the paper forms and eWell submitted information will be compatible; we will submit these revisions to OMB for approval.

DATES: Submit written comments by April 25, 2005.

ADDRESSES: You may submit comments on the burden by any of the following methods listed below. Please use OMB Control Number 1010-0141 as an identifier in your message.

• MMS's Public Connect on-line commenting system, https://ocsconnect.mms.gov. Follow the instructions on the website for submitting comments.

• Federal eRulemaking Portal: http://www.regulations.gov. Follow the instructions on the website for submitting comments.

• E-mail MMS at rules.comments@mms.gov. Use 1010-0141 in the subject line.

• Fax: 703-787-1093. Identify with 1010-0141.

• Mail or hand-carry comments to the Department of the Interior; Minerals Management Service; Attention: Rules Processing Team (RPT); 381 Elden Street, MS-4024; Herndon, Virginia 20170-4817. Please reference Information Collection 1010-0141 in your comments and include your name and return address.

FOR FURTHER INFORMATION CONTACT: Cheryl Blundon, Rules Processing Team at (703) 787-1600. You may also contact Cheryl Blundon to obtain a copy, at no cost, of the regulation and any forms that require the subject collection of information.

SUPPLEMENTARY INFORMATION: Title: 30 CFR Part 250, Subpart D, Oil and Gas Drilling Operations.

OMB Control Number: 1010-0141.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” This authority and responsibility are among those delegated to the MMS. To carry out these responsibilities, MMS issues regulations governing oil and gas and sulphur operations in the OCS. This notice pertains to the information collection requirements of subpart D and the MMS forms that are used to submit information required pursuant to 30 CFR 250, Subpart D, Oil and Gas Drilling Operations. These requirements and burdens for the forms are being consolidated into the primary collection for subpart D, OMB Control Number 1010-0141.

The MMS OCS Regions use the information collected to ensure that requirements are carried out for oil and gas drilling operations; that operators are required to take necessary precautions to keep wells under control at all times using the best available and safest drilling technology to monitor and evaluate well conditions; and that operators must use and maintain equipment and materials necessary to ensure the safety and protection of personnel, equipment, natural resources, and the environment.

In addition, MMS also issues various Notices to Lessees (NTLs) and Operators to clarify and provide additional guidance on some aspect of the regulations, as well as various forms to capture the data and information. The current subpart D regulations specify the use of forms MMS-123 (Application for Permit to Drill, OMB Control Number 1010-0044, expiration 10/31/05), MMS-123S (Supplemental APD Information Sheet, OMB Control Number 1010-0131, expiration 10/31/05), MMS-124 (Application for Permit to Modify, OMB Control Number 1010-0045, expiration 10/31/05), MMS-125 (End of Operations Report, OMB Control Number 1010-0046, expiration 10/31/05), and MMS-133 (Well Activity Report, OMB Control Number 1010-0132, expiration 10/31/05), which were approved individually by OMB and assigned separate control numbers. The requirements and burdens for these forms are being merged into the main collection for subpart D, OMB Control Number 1010-0141. One of the forms has been broken out into two separate forms, MMS-133 and MMS-133S, for submission to separate offices.

Previous Office of Management and Budget (OMB) approvals associated with the forms relating to the subpart D collection of information attached a term of clearance specifying “ * * * future submissions will provide an update to efforts currently underway to accommodate the electronic submission of data and how these efforts are reducing burden.” For Forms MMS-123S and MMS-133, another term of clearance was requested specifying “* * * include in its estimate the number of hours needed to collect information submitted in the form.” To implement the Government Paperwork Elimination Act and to streamline data collection, MMS has been developing systems to provide electronic options for lessees and operators to use in submitting information and requesting approvals. An electronic system entitled eWell has been up and running, operators who wished to be involved were trained from June through August 2004, and the system is being used in the Gulf of Mexico (GOM) Region. Out of all the GOM respondents, 45 percent of all submissions are now done electronically. At this time, neither the Pacific nor the Alaska Regions have the electronic eWell system. Until the time that the transition process from paper forms to submitting information via the eWell system is not an issue, some of the regions will have respondents submitting paper forms. With this submission, forms are being revised so that paper submittal and eWell submittal information is compatible. Some of the paper forms have been revamped and the data fields may be renumbered. We have eliminated some data fields that were either duplicative or no longer needed, renamed some sections and data fields, relocated data fields from one form to another, and added some data fields in a different format to make responses quicker for the respondent. It should be noted that the added data fields should not impose any additional burden on respondents, and are not actually new information.

The following explains how we use the information collected on each form.

• Form MMS-123, Application for Permit to Drill and Form MMS-123S, Supplemental APD Information Sheet (Casing Design): MMS uses the information from these forms to determine the conditions of a drilling site to avoid hazards inherent in drilling operations. Specifically, the appropriate MMS District Office uses the information to evaluate the adequacy of a lessee's drilling, well-completion, well-workover, and well-abandonment plans and equipment to determine if the proposed operations will be conducted in an operationally safe manner that provides adequate protection for the environment. The District Office also reviews the information to ensure conformance with specific provisions of the lease.

• Form MMS-124, Application for Permit to Modify: MMS uses the information on this form to evaluate the adequacy of the equipment, materials, and/or procedures that the lessee plans to use during well drilling, completion, workover, and production operations. This includes deepening, plugging back, and well-abandonment operations, including temporary abandonments where the wellbore will be re-entered and completed or permanently plugged.

• Form MMS-125, End of Operations Report: MMS uses this information to ensure that they have accurate and up-to-date data and information on wells and leasehold activities under their jurisdiction and to ensure compliance with approved plans and any conditions placed upon a suspension or temporary prohibition. It is also used to evaluate the remedial action in the event of well equipment failure or well control loss. The information keeps us aware of the status of drilling operations.

• Form MMS-133, Well Activity Report and Form MMS-133S, Open Hole Data Report (Supplement to the Well Activity Report): MMS uses this information to monitor the conditions of a well and status of drilling operations. Specifically, the drilling engineer in the District Supervisor reviews the information to be aware of the well conditions and current drilling activity (i.e., well depth, drilling fluid weight, casing types and setting depths, completed well logs, and recent safety equipment tests and drills). The engineer uses this information to determine how accurately the lessee anticipated well conditions and if the lessee is following the approved Application for Permit to Drill (form MMS-123) and its companion form (MMS-123S). The MMS engineer and District Manager also use the information in their review of an Application for Permit to Modify (form MMS-124). With the information collected on forms MMS-133 and MMS-133S available, the reviewers can analyze the proposed revisions (i.e., revised grade of casing or deeper casing setting depth) and make a quick and informed decision on the request. This was originally one form; it has now been broken out in paper format into two separate forms so that the information can be released to separate MMS District offices. There are new items that were previously submitted in report format that are now put on the forms to facilitate the eWell process; we anticipate no change in the burden hours.

We will protect information from respondents considered proprietary under the Freedom of Information Act (5 U.S.C. 552) and its implementing regulations (43 CFR part 2) and under regulations at 30 CFR 250.196, “Data and information to be made available to the public,” and 30 CFR part 252, “OCS Oil and Gas Information Program.”

No items of a sensitive nature are collected. Responses are mandatory.

Frequency: On occasion, weekly, monthly, semi-annually, annually, and varies by section.

Estimated Number and Description of Respondents: Approximately 130 Federal OCS permittees, notice filers, or respondents.

Estimated Reporting and Recordkeeping “Hour” Burden: The currently approved annual reporting burden for the collections of subpart D and associated forms is 146,663 hours combined. The following chart details the individual components and respective hour burden estimates of this ICR. In calculating the burdens, we assumed that respondents perform certain requirements in the normal course of their activities. We consider these to be usual and customary and took that into account in estimating the burden.

Citation 30 CFR Part 250 Subpart D and NTL(s) | Reporting and recordkeeping requirement | Hour burden
402(b) | Request approval to use blind or blind-shear ram or pipe rams and inside BOP | .25
403 | Notify MMS of drilling rig movement on or off drilling location | .1
| In Gulf of Mexico OCS Region, rig movements reported on form MMS-144—burden covered under 1010-0150
408, 409 | Apply for use of alternative procedures and/or departures not requested in MMS forms (including discussions with MMS or oral approvals) | 1
408, 409; 410-418, plus various other references in subpart D | Apply for permit to drill and requests for various approvals required in subpart D (including §§ 250.423, 424, 442(c), 451(g), 456(f)) and obtained via forms MMS-123 (Application for Permit to Drill) and MMS-123S (Supplemental APD Information Sheet), and supporting information and notices to MMS | Form 123, 1.5
|  | Form 123S, 2.5
410(a)(3), 417(b) | Reference to Exploration Plan, Development and Production Plan, Development Operations Coordination Document (30 CFR 250, subpart B)—burden covered under 1010-0049
417(a), (b) | Collect and report additional information on case-by-case basis if sufficient information is not available | 4
417(c) | Submit 3rd party review of drilling unit according to 30 CFR 250, subpart I—burden covered under 1010-0058
418(e) | Submit welding and burning plan according to 30 CFR 250, subpart A—burden covered under 1010-0114
421; 423; 428 | Submit casing and cementing program and revisions or changes. | 2
424 | Caliper, pressure test, or evaluate casing; submit evaluation results; request approval before resuming operations or beginning repairs (every 30 days during prolonged drilling) | 5
456(c), (f) | Perform various calculations; post information (on occasion, daily, weekly) | .25
459(a)(3) | Request exception to procedure for protecting negative pressure area | 2
460; 465 | Submit revised plans, changes, well/drilling records, etc., on forms MMS-124 (Application for Permit to Modify) or MMS-125 (End of Operations Report). | Form 124, 1.25
|  | Form 125, 1
460 | Submit plans for well testing and notify MMS before test | 2
461(e) | Provide copy of well directional survey to affected leaseholder | 1
462(a) | Prepare and post well control drill plan for crew members | 3
463(b) | Request field drilling rules be established, amended, or canceled | 2.5
468(a) | Submit well logs, survey results, etc. | 1.5
| Submit directional and vertical well surveys | .5
| Submit velocity profiles and surveys | .25
| Submit core analyses | .25
468(b); 465(b)(3) | In the GOM OCS Region, submit drilling activity reports weekly on form MMS-133 (Well Activity Report (WAR)) and form MMS-133S (Open Hole Data Report (Supplement to the WAR)) | 1
468(c) | In the Pacific and Alaska OCS Regions during drilling operations, submit daily drilling reports | 1
469 | As specified by region, submit well records, paleontological interpretations or reports, service company reports, and other reports or records of operations | .25
490(c)(4), (d) | Submit request for reclassification of H2S zone; notify MMS if conditions change | 1.7
490(f); also referred in 418(d) | Submit contingency plans for operations in H2S areas (16 drilling, 5 work-over, 6 production) | 10
490(i) | Display warning signs—no burden as facilities would display warning signs and use other visual and audible systems
490(j)(12) | Propose alternatives to minimize or eliminate SO2 hazards—submitted with contingency plans—burden covered under 250.490(f)
490(j)(13)(vi) | Label breathing air bottles—no burden as supplier normally labels bottles; facilities would routinely label if not
490(l) | Notify (phone) MMS of unplanned H2S releases (approx. 2/year). | 2
490(o)(5) | Request approval to use drill pipe for well testing | 2
490(q)(1) | Seal and mark for the presence of H2S cores to be transported—no burden as facilities would routinely mark transported cores
490(q)(9) | Request approval to use gas containing H2S for instrument gas | 2
490(q)(12) | Analyze produced water disposed of for H2S content and submit results to MMS on occasion (approx. weekly) | 2.8
Reporting Subtotal
404 | Perform operational check of crown block safety device; record results (weekly) | 1
426 | Perform pressure test on all casing strings and drilling liner lap; record results | 2
427(a) | Perform pressure-integrity tests and related hole-behavior observations; record results | 4
434; 467 | Perform diverter tests when installed and once every 7 days; actuate system at least once every 24-hour period; record results (average per drilling operation) | 2
450; 467 | Perform BOP pressure tests, actuations and inspections when installed; at a minimum every 14 days; as stated for components; record results. | 6
450, 467 | Function test annulars and rams; document results every 7 days between BOP tests (biweekly). Note: this test is part of BOP test when BOP test is conducted | .16
451(c) | Record reason for postponing BOP test (on occasion—approx. 2/year) | .1
456(b), (i); 458(b) | Record each drilling fluid circulation; test drilling fluid, record results; record daily inventory of drilling fluid/materials; test and recalibrate gas detectors; record results (on occasion, daily, weekly, quarterly) | 1.25
462(c) | Perform well-control drills; record results (2 crews weekly) | 1
466, 467 | Retain drilling records for 90 days after drilling is complete; retain casing/liner pressure, diverter, and BOP records for 2 years; retain well completion/well workover until well is permanently plugged/abandoned or lease is assigned | 1.5
490(g)(2), (g)(5) | Conduct H2S training; post safety instructions; document training on occasion and annual refresher (approx. 2/year) | 2
490(h)(2) | Conduct weekly drills and safety meetings; document attendance | 1
490(j)(8) | Test H2S detection and monitoring sensors during drilling; record testing and calibrations on occasion, daily during drilling (approx. 12 sensors per rig) | 2
490(j)(8) | Test H2S detection and monitoring sensors every 14 days during production; record testing and calibrations (approx. 30 sensors/5 platforms + approx. 42 sensors/23 platforms) | 3.5
400-490 | General departure or alternative compliance requests not specifically covered elsewhere in subpart D | 2

Estimated Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedure: MMS's practice is to make comments, including names and addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz (202) 208-7744.

Dated: February 9, 2005.
E.P. Danenberger,
Chief, Office of Offshore Regulatory Programs.

[FR Doc. 05-3242 Filed 2-18-05; 8:45 am]

BILLING CODE 4310-MR-P